DEPARTMENT OF HEALTH AND HUMAN SERVICES

Centers for Disease Control and Prevention

Disease, Disability, and Injury Prevention and Control Special Emphasis Panel: National Mesothelioma Virtual Registry and Tissue Bank, Request for Applications (RFA) OH-06-005; Occupational Health and Safety Research, Program Announcement (PA) 04-038; and Career Development Grants in Occupational Health and Safety Research, PA 04-105

In accordance with section 10(a)(2) of the Federal Advisory Committee Act (Pub. L. 92-463), the Centers for Disease Control and Prevention (CDC) announces the following meeting:

Name: Disease, Disability, and Injury Prevention and Control Special Emphasis Panel: National Mesothelioma Virtual Registry and Tissue Bank, Request for Applications (RFA) OH-06-005; Occupational Health and Safety Research, PA 04-038; and Career Development Grants in Occupational Health and Safety Research, PA 04-105.

Time and Date: 1 p.m.—5 p.m., July 5, 2006 (Closed).

Place: Teleconference originating from the office of Dr. Charles Rafferty, 2400 Century Parkway, NE., Room 4306, Atlanta, GA 30345.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of research grants in response to “National Mesothelioma Virtual Registry and Tissue Bank,” Request for Applications (RFA) OH-06-005; “Occupational Health and Safety Research,” PA 04-038; and “Career Development Grants in Occupational Health and Safety Research,” PA 04-105.

For Further Information Contact: Charles N. Rafferty, Ph.D., Scientific Review Administrator, National Institute for Occupational Safety and Health, Centers for Disease Control and Prevention, 1600 Clifton Road, Mailstop E-74, Atlanta, Georgia 30333, phone (404) 498-2582.

The Director, Management Analysis and Services Office, has been delegated the authority to sign Federal Register notices pertaining to announcements of meetings and other committee management activities, for both CDC and the Agency for Toxic Substances and Disease Registry.

Dated: June 13, 2006.
Alvin Hall,
Director, Management Analysis and Services Office, Centers for Disease Control and Prevention.

[FR Doc. E6-9648 Filed 6-19-06; 8:45 am]

BILLING CODE 4163-18-P